DEPARTMENT OF DEFENSE

Department of the Army; Corps of Engineers

Department of the Interior

Bureau of Reclamation

Upper Columbia Alternative Flood Control and Fish Operations, Libby and Hungry Horse Dams, MT

AGENCIES: Corps of Engineers, DoD, and Bureau of Reclamation, Interior.

ACTION: Notice of Availability Of Draft Environmental Impact Statement and Notice of Public Hearings.

SUMMARY: In accordance with the requirements of the National Environmental Policy Act, the U.S. Army Corps of Engineers (USACE), Seattle District, and the Bureau of Reclamation (Reclamation), Pacific Northwest Region, have prepared a Draft Environmental Impact Statement (DEIS) to evaluate the effects of alternative flood control at Libby Dam on the Kootenai River and at Hungry Horse Dam on the South Fork Flathead River in western Montana. USACE and Reclamation are making the document available to the public for review and comment through a Notice of Availability published in the Federal Register. The overall goal of the DEIS is to evaluate effects of alternative dam operations that are intended to provide reservoir and flow conditions at and below Libby and Hungry Horse Dams for anadromous and resident fish listed as threatened or endangered under the Endangered Species Act (ESA), consistent with authorized project purposes, including maintaining the current level of flood control benefits.

DATES: To ensure consideration in final EIS development, we must receive comments on or before December 27, 2005 (45 days from the November 10, 2005, Federal Register publication date of the EPA weekly notice of EIS availability). See the SUPPLEMENTARY INFORMATION section for meeting dates.

ADDRESSES: Please send written comments concerning this proposed project to: U.S. Army Corps of Engineers, Seattle District, Attn: Mr. Evan Lewis, PM-PL-ER, P.O. Box 3755, Seattle, WA 98124-3755 or Bureau of Reclamation, Attn: Mr. Dan Lechefsky, 1150 N. Curtis Rd., Suite 100, Boise, ID 83706-1234. Please submit electronic comments to uceis@usace.army.mil. For electronic comments, include your name and address in your message and place your comments in the body of your message; please do not send attached files. Reclamation's practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organization or business, available for public disclosure in their entirety.

FOR FURTHER INFORMATION CONTACT: Mr. Evan Lewis, Environmental Coordinator, U.S. Army Corps of Engineers, Seattle District, Environmental Resources Section, (206) 764-6922, evan.r.lewis@usace.army.mil; or Mr. Dan Lechefsky, NEPA Coordinator, Pacific Northwest Region, Bureau of Reclamation, (208) 378-5039, dlechefsky@pn.usbr.gov.

SUPPLEMENTARY INFORMATION: Multiple-purpose project operations (including flood control, hydropower, fish and wildlife, recreation, navigation, irrigation, water supply, and water quality) at Libby, Hungry Horse, and other dams have altered the natural river hydrology of the Columbia River and some of its major tributaries. These dams store the spring snowmelt runoff to control floods and release water for multiple uses. Populations of threatened and endangered fish in the Columbia River Basin (Kootenai River white sturgeon, Columbia Basin bull trout, and several Columbia River salmon and steelhead stocks) benefit from certain high-flow periods, which historically were determined by natural runoff patterns driven by snowmelt and rainfall. While the status of bull trout populations in the Kootenai and Flathead rivers is generally better than some others in the Columbia Basin, Kootenai River white sturgeon numbers are estimated at fewer than 500 (down from numbers of 5,000-6,000 in the 1980's) and are declining at approximately 9% per year. Several salmon and steelhead populations in the Columbia Basin are listed as threatened or endangered. Pursuant to Section 7 of the Endangered Species Act, the 2000 U.S. Fish and Wildlife Service Biological Opinion on the operation of the Federal Columbia River Power System (FCRPS) included a recommendation to implement variable discharge flood control (VARQ), with Q representing engineering shorthand for discharge, at Libby and Hungry Horse dams. NOAA Fisheries considered the Updated Proposed Action (UPA) and issued the 2004 NOAA Fisheries FCRPS Biological Opinion on November 30, 2004. The 2004 UPA generally reflects, with certain modifications, the hydropower, habitat, hatchery, and harvest measures implemented under the 2000 biological opinion Reasonable and Prudent Alternative including implementation of VARQ flood control at Libby Dam and Hungry Horse Dam.

Implementation of VARQ flood control and various flow augmentation operations would modify dam operations and riverflows to avoid jeopardizing the continued existence of endangered Kootenai River white sturgeon, threatened Columbia Basin bull trout, and several populations of threatened and endangered Columbia Basin salmon and steelhead. This DEIS focuses on those environmental conditions that would be modified by implementation of the proposed Federal Action or several alternatives.

The proposed Federal action consists of:

(1) Implementation of alternative flood control at Libby Dam on the Kootenai River and Hungry Horse Dam on the South Fork Flathead River. Called variable discharge flood control, this alternative action is known as “VARQ” flood control, with Q representing engineering shorthand for discharge.

(2) Flow augmentation that such alternative flood control would facilitate in the Kootenai River, the Flathead River, and main stem Columbia River for fish populations listed as threatened or endangered under the ESA. Flow augmentation (i.e., fish flows) includes release of water for bull trout, salmon, and, at Libby Dam, white sturgeon.

We are making the DEIS available to the public for a 45-day review and comment period.

Seven public meetings are planned for the DEIS in order to provide an opportunity for the public to present oral and/or written comments. USACE will host the meetings at Eureka, MT; Bonners Ferry, ID; and Nelson, BC. Reclamation will host the meetings at Kalispell, MT; Kettle Falls, WA; and Grand Coulee, WA. Both agencies will co-host the meeting in Newport, WA. All meetings will begin at 6 pm, local time. For the first hour, resource specialists will be available to answer questions. At 7 p.m., there will be an opportunity to provide verbal and written comments for the record.

The meeting dates and locations follow:

November 28, 2005: Best Western Hotel, Nelson, British Columbia; West Coast Kalispell Center Hotel, Kalispell, MT

November 29, 2005: Elementary School Cafeteria, Newport, WA

November 30, 2005: High School Auditorium, Eureka, MT; KC Diner, Kettle Falls, WA

December 1, 2005: Kootenai River Inn, Bonners Ferry, ID; Grand Coulee City Hall, Grand Coulee, WA

Copies of the DEIS are available for public review at libraries throughout the potentially affected portions of the Kootenai, Flathead, Clark Fork, Pend Oreille, and upper Columbia Basins in the U.S. and Canada. The USACE and Reclamation have distributed electronic and hard copies of the DEIS to appropriate members of Congress; State, local, and tribal government officials; Federal agencies; and other interested parties. You may view the DEIS and related information on our Web page at: http://www.usbr.gov/pn/programs/VARQ.

After the public comment period ends on December 27, 2005, USACE and Reclamation will consider all comments received. The DEIS will be revised as appropriate and a final EIS will be issued. The DEIS has been prepared in accordance with (1) The National Environmental Policy Act (NEPA) of 1969, as amended (42 U.S.C. 4321 et seq.), (2) regulations of the Council on Environmental Quality for implementing the procedural provisions of NEPA (40 CFR parts 1500-1508), (3) USACE regulations implementing NEPA (ER-200-2-2), and (4) Reclamation regulations for implementing NEPA (Reclamation Manual, Policy PO3).

Colonel Debra M. Lewis, District Engineer, Seattle District, U.S. Army Corps of Engineers, P.O. Box 3755, Seattle, WA 98124-3755.

J. William McDonald, Regional Director, Pacific Northwest Region, Bureau of Reclamation, 1150 North Curtis Road, Suite 100, Boise, ID 83706-1234.

Dated: November 3, 2005.
Debra M. Lewis,
District Engineer.
J. William McDonald,
Regional Director, Pacific Northwest Region, Bureau of Reclamation.

[FR Doc. 05-22406 Filed 11-9-05; 8:45 am]

BILLING CODE 3710-92-P